DEPARTMENT OF HEALTH AND HUMAN SERVICES

Meeting of the Chronic Fatigue Syndrome Advisory Committee

AGENCY: Office of the Assistant Secretary for Health, Office of the Secretary, Department of Health and Human Services.

ACTION: Notice.

SUMMARY: As stipulated by the Federal Advisory Committee Act, the U.S. Department of Health and Human Services (HHS) is hereby giving notice that a meeting of the Chronic Fatigue Syndrome Advisory Committee (CFSAC) will take place and will be open to the public.

DATES: The CFSAC in person meeting will be held on Wednesday, December 13, 2017, from 9:00 a.m. until 3:30 p.m. and Thursday, December 14, 2017, from 9:00 a.m. until 5:00 p.m. (EST).

ADDRESSES: U.S. Department of Health and Human Services, Hubert H. Humphrey Building, Room 800, 200 Independence Avenue SW., Washington, DC 20201.

FOR FURTHER INFORMATION CONTACT: Commander Gustavo Ceinos, MPH, Designated Federal Officer, Chronic Fatigue Syndrome Advisory Committee, Department of Health and Human Services, 200 Independence Avenue SW., Room 728F6, Washington, DC 20201. Please direct all inquiries to cfsac@hhs.gov or 202-690-7650.

SUPPLEMENTARY INFORMATION: The CFSAC is authorized under 42 U.S.C. 217a, Section 222 of the Public Health Service Act, as amended. The purpose of the CFSAC is to provide advice and recommendations to the Secretary of Health and Human Services, through the Assistant Secretary for Health (ASH), on issues related to myalgic encephalomyelitis/chronic fatigue syndrome (ME/CFS). The issues can include factors affecting access and care for persons with ME/CFS; the science and definition of ME/CFS; and broader public health, clinical, research, and educational issues related to ME/CFS.

The agenda for this meeting, call-in information and location will be posted on the CFSAC Web site http://www.hhs.gov/ash/advisory-committees/cfsac/meetings/index.html.

Request to speak to the committee: Each day of the meeting an hour has been scheduled for public comments via telephone or in person. Individuals will have three minutes to present their comments. Priority will be given to individuals who have not provided public comment within the previous twelve months. We are unable to place international calls for public comments. To request a time slot for public comments, please send an email to cfsac@hhs.gov by close of business on Monday, November 27, 2017. The email should contain the speaker's name and the phone number that will be used for public comments.

An email from the CFSAC Support Team will be sent back to you confirming receipt of your request. If the email confirmation is not received within two working days, please call 202-690-7650.

Request to provide written comments: Individuals who would like to provide only written testimony to the Committee members and do not wish to speak, should indicate so in their email when submitting their written testimony. It is preferred, but not required, that the submitted testimony be prepared in digital format and typed using a 12-pitch font. Written comments must not exceed 5 single-space pages, and it is preferred, but not required that the document be prepared in the MS Word format. Please note that PDF files, handwritten notes, charts, and photographs cannot be accepted. Materials submitted should not include sensitive personal information, such as social security number, birthdates, driver's license number, passport number, financial account number, or credit or debit card number. If you wish to remain anonymous please specify this in your email, otherwise your name will be included at the top of your written comments.

The Committee welcomes input on any topic related to ME/CFS.

Dated: November 17, 2017.
Gustavo Ceinos,
CDR, USPHS, Designated Federal Officer, Chronic Fatigue Syndrome Advisory Committee.

[FR Doc. 2017-25550 Filed 11-24-17; 8:45 am]

BILLING CODE 4150-42-P